NUCLEAR REGULATORY COMMISSION

[Docket Nos. 50-269-SLR, 50-270-SLR, and 50-287-SLR; ASLBP No. 22-972-01-SLR-BD01]

Duke Energy Carolinas, LLC; Establishment of Atomic Safety and Licensing Board

Pursuant to delegation by the Commission, see 37 FR 28,710 (Dec. 29, 1972), and the Commission's regulations, see, e.g., 10 CFR 2.104, 2.105, 2.300, 2.309, 2.313, 2.318, 2.321, notice is hereby given that an Atomic Safety and Licensing Board (Board) is being established to preside over the following proceeding:

DUKE ENERGY CAROLINAS, LLC, (Oconee Nuclear Station, Units 1, 2, and 3)

This proceeding involves an application seeking a twenty-year subsequent license renewal of Renewed Facility Operating License Nos. DPR-38, DPR-47, and DPR-55, which authorize Duke Energy Carolinas, LLC to operate the Oconee Nuclear Station, Units 1, 2, and 3, located in Seneca, South Carolina until, respectively, February 6, 2033, October 6, 2033, and July 19, 2034. In response to a notice published in the Federal Register announcing the opportunity to request a hearing, see 86 FR 40,662 (July 28, 2021), a hearing request was filed on September 27, 2021, on behalf of Beyond Nuclear and Sierra Club.

The Board is comprised of the following Administrative Judges:

G. Paul Bollwerk, III, Chairman, Atomic Safety and Licensing Board Panel, U.S. Nuclear Regulatory Commission, Washington, DC 20555-0001

Nicholas G. Trikouros, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Rockville, Maryland.

Dated: October 4, 2021.
Edward R. Hawkens,
Chief Administrative Judge, Atomic Safety and Licensing Board Panel.

[FR Doc. 2021-21978 Filed 10-7-21; 8:45 am]

BILLING CODE 7590-01-P